OFFICE OF PERSONNEL MANAGEMENT

Excepted Service

AGENCY: U.S. Office of Personnel Management (OPM).

ACTION: Notice.

SUMMARY: This notice identifies Schedule A, B, and C appointing authorities applicable to a single agency that were established or revoked from June 1, 2012, to June 30, 2012.

FOR FURTHER INFORMATION CONTACT: Senior Executive Resources Services, Executive Resources and Employee Development, Employee Services, 202-606-2246.

SUPPLEMENTARY INFORMATION: In accordance with 5 CFR 213.103, Schedule A, B and C appointing authorities available for use by all agencies are codified in the Code of Federal Regulations (CFR). Schedule A, B and C appointing authorities applicable to a single agency are not codified in the CFR, but the Office of Personnel Management (OPM) publishes a notice of agency-specific authorities established or revoked each month in the Federal Register at www.gpo.gov/fdsys/. OPM also publishes annually a consolidated listing of all Schedule A, B and C appointing authorities current as of June 30 as a notice in the Federal Register.

Schedule A

No changes to report for Schedule A authorities during June 2012.

Schedule B

No changes to report for Schedule B authorities during June 2012.

Schedule C

The following Schedule C appointing authorities were approved during June 2012.

Agency name | Organization name | Position title | Authorization No. | Effective date
Department of Agriculture | Office of Communications | Speech Writer | DA120084 | 6/11/2012
Department of Commerce | Office of the Under Secretary | Director of Congressional and Public Affairs | DC120122 | 6/8/2012
| National Oceanic and Atmospheric Administration | Director, External Affairs | DC120123 | 6/13/2012
| Office of White House Liaison | Deputy Director, Office of White House Liaison | DC120126 | 6/15/2012
Department of Defense | Office of the Assistant Secretary of Defense, Global Strategic Affairs | Special Assistant(Cyber Policy) | DD120075 | 6/1/2012
| Office of the Under Secretary of Defense, Acquisition, Technology, and Logistics | Special Assistant, Acquisition, Technology and Logistics | DD120080 | 6/20/2012
Department of Education | Office of the Secretary | Special Assistant | DB120067 | 6/8/2012
| Office of the Deputy Secretary | Special Assistant | DB120061 | 6/26/2012
| Office of Legislation and Congressional Affairs | Special Assistant | DB120070 | 6/26/2012
Department of Energy | Office of the Secretary | Special Assistant | DE120094 | 6/1/2012
| Office of the General Counsel | Senior Advisor | DE120104 | 6/19/2012
| Office of Nuclear Energy | Special Advisor | DE120105 | 6/21/2012
| Office of Public Affairs | Deputy Press Secretary for Regional and Online Outreach | DE120108 | 6/21/2012
| Office of Nuclear Energy | Special Assistant | DE120106 | 6/26/2012
Department of Health and Human Services | Administrator for Children, Youth and Families/Office of Commissioner | Special Assistant | DH120114 | 6/1/2012
| Office of Intergovernmental and External Affairs | Special Assistant | DH120117 | 6/1/2012
| Office of Intergovernmental and External Affairs | Deputy Director for Regional Outreach | DH120109 | 6/13/2012
| Office of the Assistant Secretary for Public Affairs | Director for Health Care Initiatives | DH120111 | 6/13/2012
| Office of the Assistant Secretary for Legislation | Confidential Assistant | DH120112 | 6/13/2012
Department of Homeland Security | Office of the Chief of Staff | Special Assistant | DM120131 | 6/1/2012
| Federal Emergency Management Agency | Director of Legislative Affairs | DM120132 | 6/8/2012
| Office of the Assistant Secretary for Public Affairs | Director of Special Projects | DM120134 | 6/8/2012
| Office of the General Counsel | Confidential Assistant | DM120139 | 6/22/2012
Department of Housing and Urban Development | Office of Congressional and Intergovernmental Relations | General Deputy Assistant Secretary for Congressional and Intergovernmental Relations | DU120040 | 6/22/2012
Department of the Interior | Secretary's Immediate Office | Press Assistant | DI120051 | 6/1/2012
| Office of Congressional and Legislative Affairs | Special Assistant, Office of Congressional and Legislative Affairs | DI120052 | 6/19/2012
| Secretary's Immediate Office | Deputy Director, Office of Intergovernmental Affairs and Director of Latino Affairs | DI120049 | 6/26/2012
Department of Labor | Office of Congressional and Intergovernmental Affairs | Legislative Officer | DL120065 | 6/25/2012
| Office of Congressional and Intergovernmental Affairs | Chief of Staff | DL120058 | 6/27/2012
Office of Management and Budget | Office of the Director | Confidential Assistant | BO120027 | 6/7/2012
Office of National Drug Control Policy | Intergovernmental Public Liaison | Associate Director, Office of Intergovernmental Public Liaison | QQ120003 | 6/22/2012
Office of Personnel Management | Congressional and Legislative Affairs | Deputy Director | PM120017 | 6/26/2012
Selective Service System | Office of the Director | Executive Officer/Chief of Staff | SS120003 | 6/11/2012
Small Business Administration | Office of Entrepreneurial Development | Senior Advisor for Entrepreneurial Development | SB120024 | 6/19/2012
Department of State | Bureau of Conflict and Stabilization Operations | Special Assistant | DS120087 | 6/1/2012
| Office of the Under Secretary for Civilian Security, Democracy and Human Rights | Special Advisor for Global Youth Issues | DS120091 | 6/1/2012
Department of Transportation | Secretary | Special Assistant for Scheduling and Advance | DT120066 | 6/15/2012
| Public Affairs | Deputy Press Secretary | DT120070 | 6/19/2012
Department of the Treasury | Assistant Secretary for Financial Stability | Senior Advisor | DY120093 | 6/1/2012
| Assistant Secretary, Economic Policy | Deputy Assistant Secretary for Microeconomic Analysis | DY120094 | 6/1/2012
| Assistant Secretary, Public Affairs | Spokesperson | DY120097 | 6/19/2012
| Assistant Secretary, Public Affairs | New Media Specialist | DY120098 | 6/21/2012

The following Schedule C appointing authorities were revoked during June 2012.

Agency | Organization | Position title | Authorization No. | Vacate date
Commission on Civil Rights | Commissioners | Special Assistant to the Commissioner | CC070004 | 6/22/2012
Department of Agriculture | Office of the Under Secretary for Research, Education and Economics | Special Assistant | DA110068 | 6/2/2012
| Farm Service Agency | Special Assistant, Deputy Chief of Staff | DA120017 | 6/16/2012
Department of Commerce | Office of White House Liaison | Deputy Director, Office of White House Liaison | DC110025 | 6/16/2012
| Economics and Statistics Administration | Special Assistant | DC110124 | 6/29/2012
Department of Education | Office of the Under Secretary | Confidential Assistant | DB110017 | 6/1/2012
| Office of Legislation and Congressional Affairs | Confidential Assistant | DB110061 | 6/16/2012
| Office of Innovation and Improvement | Special Assistant | DB120010 | 6/16/2012
| Office of the Secretary | Special Assistant | DB120046 | 6/17/2012
| Office for Civil Rights | Senior Counsel | DB120050 | 6/18/2012
| Office of Planning, Evaluation and Policy Development | Confidential Assistant | DB120013 | 6/22/2012
Department of Energy | Office of Assistant Secretary for Policy and International Affairs | Special Assistant | DE090159 | 6/1/2012
| Office of the American Recovery and Reinvestment Act | Special Assistant | DE090117 | 6/22/2012
Department of Health and Human Services | Office of the Assistant Secretary for Public Affairs | Surrogate Scheduler (Health Reform) | DH100148 | 6/2/2012
| Administrator for Children, Youth and Families/Office of Commissioner | Confidential Assistant to the Commissioner, Administration for Children, Youth and Families | DH090276 | 6/2/2012
| Office of the Assistant Secretary for Legislation | Confidential Assistant, Office of the Assistant Secretary for Legislation (Health Reform) | DH100162 | 6/16/2012
| Office of the Assistant Secretary for Public Affairs | Special Assistant (Health Reform) | DH100180 | 6/16/2012
| Office of Intergovernmental and External Affairs | Deputy Director, Office of Intergovernmental and External Affairs | DH110119 | 6/16/2012
| Office of the Assistant Secretary for Children and Families | Associate Commissioner | DH090174 | 6/30/2012
Department of Homeland Security | Office of Assistant Secretary for Legislative Affairs | Director of Strategy and Planning | DM090335 | 6/2/2012
| Office of the Chief of Staff | Special Assistant to the Deputy Chief of Staff | DM100198 | 6/2/2012
| Office of the Chief of Staff | Special Assistant to the Deputy Chief of Staff | DM110141 | 6/2/2012
| Office of the Assistant Secretary for Public Affairs | Director of Special Projects | DM120026 | 6/16/2012
Department of Housing and Urban Development | Office of Congressional and Intergovernmental Relations | General Deputy Assistant Secretary for Congressional and Intergovernmental Relations | DU100083 | 6/16/2012
Department of Labor | Office of the Secretary | Special Assistant | DL090131 | 6/15/2012
Department of State | Office of Global Food Security | Staff Assistant | DS100031 | 6/2/2012
Department of the Interior | Office of Congressional and Legislative Affairs | Special Assistant | DI110037 | 6/2/2012
| Bureau of Land Management | Special Assistant | DI090178 | 6/20/2012
| Secretary's Immediate Office | Deputy Director, Intergovernmental Affairs | DI110022 | 6/30/2012
Department of Transportation | Administrator | Special Assistant to the Administrator | DT090102 | 6/16/2012
Federal Deposit Insurance Corporation | Federal Deposit Insurance Corporation | Director for Public Affairs | FD070003 | 6/17/2012
Office of the Secretary of Defense | Office of the Assistant Secretary of Defense, International Security Affairs | Special Assistant to the Deputy Assistant Secretary of Defense for African Affairs | DD110119 | 6/1/2012
| Office of the Assistant Secretary of Defense, Global Strategic Affairs | Special Assistant to the Deputy Assistant Secretary of Defense for Cyber and Space Policy | DD100019 | 6/2/2012
| Office of the Secretary | Confidential Assistant | DD070270 | 6/8/2012
| Washington Headquarters Services | Defense Fellow | DD090297 | 6/15/2012
| Washington Headquarters Services | Defense Fellow | DD100188 | 6/15/2012
| Office of the Assistant Secretary of Defense, International Security Affairs | Special Assistant to the Deputy Assistant Secretary of Defense (Middle East) | DD090215 | 6/16/2012
Small Business Administration | Office of Congressional and Legislative Affairs | Congressional and Legislative Affairs Assistant | SB100046 | 6/15/2012
| Office of Government Contracting and Business Development | Director of Hubzone | SB100039 | 6/16/2012

Authority: 5 U.S.C. 3301 and 3302; E.O. 10577, 3 CFR 1954-1958 Comp., p. 218.

U.S. Office of Personnel Management.
John Berry,
Director.

[FR Doc. 2012-20057 Filed 8-14-12; 8:45 am]

BILLING CODE 6325-39-P